DEPARTMENT OF COMMERCE

International Trade Administration

Removal of Trade Mission Optional Stops to the Global Diversity Export Initiative (GDEI) Trade Mission to Saudi Arabia

AGENCY: International Trade Administration, Department of Commerce.

ACTION: Notice.

SUMMARY: The U.S. Department of Commerce, International Trade Administration (ITA), is organizing a Global Diversity Export Initiative (GDEI) Trade Mission to Riyadh, Saudi Arabia, from December 8-9, 2024, with optional stops to Jeddah and Dhahran, Saudi Arabia, from December 10-11, 2024. This notice is to update the prior Federal Register notice to reflect that the mission will no longer offer optional stops to Jeddah and Dhahran, Saudi Arabia.

FOR FURTHER INFORMATION CONTACT: Jeffrey Odum, Global Trade Programs, International Trade Administration, U.S. Department of Commerce, 1401 Constitution Avenue NW, Washington, DC 20230; telephone (202) 482-6397 or email Jeffrey.Odum@trade.gov.

SUPPLEMENTARY INFORMATION: Amendment to Remove the Trade Mission Optional Stops.

Background

Global Diversity Export Initiative (GDEI) Trade Mission to Saudi Arabia

The International Trade Administration has determined that to allow for optimal execution of the trade mission, the optional stops to Jeddah and Dhahran, Saudi Arabia will be removed. Trade Mission participants will have an opportunity to meet with potential partners and distributors from Jeddah and Dhahran, Saudi Arabia, during the core mission stop in Riyad, Saudi Arabia, taking place December 8-9, 2024.

Contact

Global Diversity Export Initiative Contact Information

Gabriela Zelaya, Acting Director/Global Diversity Export Initiative—U.S. Commercial Service San Jose, CA; Gabriela.Zelaya@trade.gov; Tel: 408-335-9202.

Middle East & Africa Global Team Contact Information

Larry Tabash, Global Team Leader, Middle East & Africa Team, U.S. Commercial Service Austin, TX; Larry.Tabash@trade.gov; Tel: 512-936-0039.

CS KSA Contact Information

Andrew Billard, Senior Commercial Officer—U.S. Embassy, Saudi Arabia, Andrew.Billard@trade.gov.

Carla Menéndez, Deputy Senior Commercial Officer—U.S. Embassy Saudi Arabia, Carla.Menendez@trade.gov.

Gemal Brangman,
Director, Global Trade Programs.

[FR Doc. 2024-11262 Filed 5-22-24; 8:45 am]

BILLING CODE 3510-DR-P